ENVIRONMENTAL PROTECTION AGENCY

[EPA-HQ-TRI-2017-0057; FRL-9970-79-OEI]

Information Collection Request Submitted to OMB for Review and Approval; Comment Request; Toxic Chemical Release Reporting and Renewals of Form R, Form A and Form R Schedule 1 (Renewal)

AGENCY: Environmental Protection Agency (EPA).

ACTION: Notice.

SUMMARY: The Environmental Protection Agency has submitted an information collection request (ICR), “Toxic Chemical Release Reporting and Renewals of Form R, Form A and Form R Schedule 1” (EPA ICR No.1363.26, OMB Control No. 2025-0009) to the Office of Management and Budget (OMB) for review and approval in accordance with the Paperwork Reduction Act. This is a proposed extension of the ICR, which is currently approved through November 30, 2017. Public comments were previously requested via the Federal Register (82 FR 24702) on May 30, 2017 during a 60-day comment period. This notice allows for an additional 30 days for public comments. A fuller description of the ICR is given below, including its estimated burden and cost to the public. An agency may not conduct or sponsor and a person is not required to respond to a collection of information unless it displays a currently valid OMB control number.

DATES: Additional comments may be submitted on or before December 21, 2017.

ADDRESSES: Submit your comments, referencing Docket ID Number EPA-HQ-TRI-2017-0057 to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Colby Lintner, Environmental Assistance Division (7408M), Office of Pollution Prevention and Toxics, Environmental Protection Agency, 1200 Pennsylvania Ave. NW., Washington, DC 20460-0001; telephone number: (202) 554-1404; email address: TSCA-Hotline@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Pursuant to section 313 of the Emergency Planning and Community Right-to-Know Act (EPCRA), certain facilities that manufacture, process, or otherwise use specified toxic chemicals in amounts above reporting threshold levels must submit annually to EPA and to designated State or Tribal officials toxic chemical release forms containing information specified by EPA. In addition, pursuant to section 6607 of the Pollution Prevention Act (PPA), facilities reporting under section 313 of EPCRA must also report pollution prevention and waste management data, including recycling information, for such chemicals. EPA compiles and stores these reports in a publicly accessible database known as the Toxics Release Inventory (TRI).

Form Numbers: None.

Respondents/affected entities: Facilities that submit annual reports under section 313 of EPCRA and section 6607 of PPA.

Respondent's obligation to respond: Mandatory (EPCRA Section 313).

Estimated number of respondents: 21,856.

Frequency of response: Annual.

Total estimated burden: 3,597,275 hours (per year). Burden is defined at 5 CFR 1320.3(b).

Total estimated cost: $199,217,089 (per year), includes $0 in annualized capital investment or maintenance and operational costs.

Changes in the estimates: There is an increase of 41,277 hours in the total estimated respondent burden compared with that identified in the ICR currently approved by OMB. This increase reflects a slight increase in the number of facilities reporting to TRI.

Courtney Kerwin,
Acting Director, Collection Strategies Division.

[FR Doc. 2017-25161 Filed 11-20-17; 8:45 am]

BILLING CODE 6560-50-P